DEPARTMENT OF COMMERCE

National Oceanic and Atmospheric Administration

50 CFR Part 648

[I.D. 082503C]

New England Fishery Management Council; Public Meeting

AGENCY: National Marine Fisheries Service (NMFS), National Oceanic and Atmospheric Administration (NOAA), Commerce.

ACTION: Public Meeting.

SUMMARY: The New England Fishery Management Council (Council) will hold a three-day public meeting on September 16, 17, and 18, 2003, to consider actions affecting New England fisheries in the exclusive economic zone (EEZ).

DATES: The meeting will be held on Tuesday, September 16, 2003 at 9 a.m., Wednesday, September 17, 2003 at 8:30 a.m., and on Thursday, September 18, at 8:30 a.m.

ADDRESSES: The meeting will be held at the Holiday Inn Express, 110 Middle Street, Fairhaven, Massachusetts 02719; telephone (508) 997-1281. Requests for special accommodations should be addressed to the New England Fishery Management Council, 50 Water Street, Mill 2, Newburyport, Massachusetts 01950; telephone: (978) 465-0492.

FOR FURTHER INFORMATION CONTACT: Paul J. Howard, Executive Director, New England Fishery Management Council (781) 231-0422.

SUPPLEMENTARY INFORMATION:

Tuesday, September 16, 2003

Following introductions, the Council will elect its 2003-2004 slate of officers followed by reports on recent activities from the Council Chairman and Executive Director, NMFS Regional Administrator, NOAA General Counsel, Northeast Fisheries Science Center and Mid-Atlantic Fishery Management Council liaisons, and representatives of the U.S. Coast Guard, NMFS Enforcement and the Atlantic States Marine Fisheries Commission. Following reports, the Council will receive a NMFS report on the status and implementation of electronic reporting for federally permitted seafood dealers. The Council is then scheduled to take action on the final Atlantic Sea Scallop Fishery Management (FMP) Amendment 10 documents, including draft regulations, for submission to the Secretary of Commerce. The FMP will implement DAS allocations for the 2004 and 2005 fishing years, increase twine top mesh to 10-inches, increase dredge ring size to 4-inches, implement a rotation area management closure system, and allocate Hudson Canyon Area trips with a 21,000 lb. possession limit and a 9 day-at-sea tradeoff. NMFS will hold a special session to gather input from stakeholders on broad themes related to fisheries management, including information on daily operations and potential ways to evaluate solutions to problems.

Wednesday, September 17, 2003

The meeting will commence with a report by the Monkfish Committee requesting that the Council review and possibly approve the Monkfish FMP Amendment 2 Draft Supplemental Environmental Impact Statement (DSEIS). If approved, the Mid-Atlantic Fishery Management Council (MAFMC) will consider approval of the DSEIS in October. Following this report, the Council will discuss vessel upgrading and permit issues. The Council will discuss its intent concerning the vessel permit upgrading baseline during the development of the Monkfish FMP; develop a response to the MAFMC's request to examine the issue of small vessel length and horsepower upgrade limits in the “Consistency Amendment” now in effect for a number of the Council and MAFMC FMPs; and develop a position about the 30-day sign-in requirement for exempted fisheries programs. The day will conclude with a report from the Marine Protected Areas (MPA) Committee which will review and seek approval of committee recommendations concerning a Council position on MPAs; review and approve committee comments developed in response to a Federal Register notice on proposed criteria for building an Inventory of Existing Marine Managed Areas; and review and approve a draft work plan to address MPA issues for consideration in setting 2004 Council priorities.

Thursday, September 18, 2003

The meeting will convene with a Herring Committee Report requesting that the Council review and approve a range of management alternatives to be analyzed in the Draft Environmental Impact Statement (DEIS) for Amendment 1 to the Atlantic Herring FMP. The amendment may include the following: revised estimates of maximum sustainable yield and optimum yield; changes to the process for determining area-specific total allowable catch levels (TACs); initial area-specific TACs upon implementation of Amendment 1; adjustments to the timing of the specification process; adjustments to management area boundaries; a limited access program for the Atlantic herring fishery; observer coverage requirements; measures to address fixed gear fisheries and other effort controls. Following this agenda item, the Council will provide a brief opportunity for comments from the public on issues that are not otherwise listed on the agenda, but relevant to Council business. The Red Crab Committee will review and approve recommendations concerning the annual specifications for the red crab fishery for fishing year 2004 (March 1, 2004 February 28, 2005). The Research Steering Committee will discuss approval of a policy concerning the incorporation of cooperative research results into the management process. The day will conclude with approval of the Council's Standard Operating Procedures and Practices.

Although other issues not contained in this agenda may come before this Council for discussion, in accordance with the Magnuson-Stevens Fishery Conservation and Management Act, those issues may not be the subject of formal Council action during this meeting. Council action will be restricted to those issues specifically listed in this notice.

Special Accommodations

This meeting is physically accessible to people with disabilities. Requests for sign language interpretation or other auxiliary aids should be directed to Paul J. Howard (see ADDRESSES) at least five days prior to the meeting date.

Dated: August 25, 2003.
Bruce C. Morehead,
Acting Director, office of Sustainable Fisheries, National Marine Fisheries Service.

[FR Doc. 03-22189 Filed 8-28-03; 8:45 am]

BILLING CODE 3510-22-S